DEPARTMENT OF EDUCATION

Notice of Submission for OMB Review

AGENCY: Department of Education.

ACTION: Comment Request.

SUMMARY: The Director, Information Collection Clearance Division, Information Management and Privacy Services, Office of Management, invites comments on the submission for OMB review as required by the Paperwork Reduction Act of 1995 (Pub. L. 104-13).

DATES: Interested persons are invited to submit comments on or before May 18, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: April 13, 2011.
Darrin A. King,
Director, Information Collection Clearance Division, Information Management and Privacy Services, Office of Management.

Institute of Education Sciences

Type of Review: Revision.

Title of Collection: Integrated Postsecondary Education Data System (IPEDS) Web-based Data Collection 2011-12 through 2013-14.

OMB Control Number: 1850-0582.

Agency Form Number(s): N/A.

Frequency of Responses: Annually.

Affected Public: Businesses or other for-profit; Not-for-profit institutions; State, Local, or Tribal Government, State Education Agencies or Local Educational Agencies.

Total Estimated Number of Annual Responses: 64,800.

Total Estimated Annual Burden Hours: 819,932.

Abstract: Integrated Postsecondary Education Data System (IPEDS) is a system of surveys designed to collect basic data from approximately 7,000 Title IV postsecondary institutions in the United States and other jurisdictions. The IPEDS provides information on numbers of students enrolled, degrees completed, other awards earned, dollars expended, staff employed at postsecondary institutions, and cost and pricing information. The amendments to the Higher Education Act of 1998, Part C, Sec. 131, specify the need for the “redesign of relevant data systems to improve the usefulness and timeliness of the data collected by such systems.” As a consequence, in 2000 IPEDS began to collect data through a Web-based data collection system. The data collection is now entirely Web-based, and is required for those institutions participating in Title IV Federal student aid programs; other institutions participate on a voluntary basis. IPEDS data are available to the public through the College Navigator and IPEDS Data Center Web sites. This clearance package seeks authorization from OMB to continue IPEDS data collection through 2014, describes revisions to the currently approved (2010-11) IPEDS burden estimates, and includes a number of proposed changes to the data collection.

Copies of the information collection submission for OMB review may be accessed from the RegInfo.gov Web site at http://www.reginfo.gov/public/do/PRAMain or from the Department's Web site at http://edicsweb.ed.gov, by selecting the “Browse Pending Collections” link and by clicking on link number 4507. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-9354 Filed 4-15-11; 8:45 am]

BILLING CODE 4000-01-P